DEPARTMENT OF ENERGY

Federal Energy Regulatory Commission

[Docket Nos. RP97-14-004 and GT00-16-000]

Midwestern Gas Transmission Company; Notice of Negotiated Rate Filing

February 14, 2000.

Take notice that on February 9, 2000, Midwestern Gas Transmission Company (Midwestern), tendered for filing a Negotiated Rate Arrangement. Midwestern requests that the Commission approve the Negotiated Rate Arrangement effective April 1, 2000.

Midwestern states that the filed Negotiated Rate Arrangement reflects a negotiated rate between Midwestern and West Fork Land Development Company, L.L.C. (West Fork) for transportation under Rate Schedule IT beginning the first day of the month following the completion of the facilities necessary for Midwestern to deliver gas on behalf of West Fork to the proposed Wheatland Power Station for an eight (8) year period. Midwestern states that the facilities should be completed during March 2000, so it is seeking approval of the Negotiated Rate Arrangement effective April 1, 2000.

Any person desiring to be heard or to protest said filing should file a motion to intervene or a protest with the Federal Energy Regulatory Commission, 888 First Street, NE, Washington, DC 20426, in accordance with Section 385.214 or 385.211 of the Commission's Rules and Regulations. All such motions or protests must be filed on or before February 22, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-3901 Filed 2-17-00; 8:45 am]

BILLING CODE 6717-01-M